DEPARTMENT OF TRANSPORTATION

Federal Railroad Administration

[Docket No. FRA-2017-0002-N-19]

Proposed Agency Information Collection Activities; Comment Request

AGENCY: Federal Railroad Administration (FRA), Department of Transportation (DOT).

ACTION: Notice and comment request.

SUMMARY: Under the Paperwork Reduction Act of 1995 (PRA), this notice announces that FRA is forwarding the Information Collection Requests (ICRs) abstracted below to the Office of Management and Budget (OMB) for review and renewed approval. The ICRs describe the information collections and their expected burden. On March 14, 2017, FRA published a notice providing a 60-day period for public comment on the ICRs.

DATES: Comments must be submitted on or before June 30, 2017.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (Telephone: (202) 493-6292); or Ms. Kim Toone, Information Collection Clearance Officer, Office of Administration, Office of Information Technology, RAD-20, Federal Railroad Administration, 1200 New Jersey Avenue SE., Mail Stop 35, Washington, DC 20590 (Telephone: (202) 493-6132). (These telephone numbers are not toll free.)

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On March 14, 2017, FRA published a 60-day notice in the Federal Register soliciting comment on the ICRs for which it is now seeking OMB approval. See 82 FR 13714. FRA received no comments in response to the March 14, 2017 notice.

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the ICRs and their expected burden. FRA is submitting the renewal requests for clearance by OMB as the PRA requires.

Title: Passenger Train Emergency Preparedness.

OMB Control Number: 2130-0545.

Abstract: Under 49 CFR part 239, Passenger Train Emergency Preparedness, FRA requires railroads to meet minimum Federal standards for the preparation, adoption, and implementation of emergency preparedness plans connected with the operation of passenger trains, including freight railroads hosting operations of rail passenger service. To help ensure compliance with the regulations, FRA requires railroads to conduct operational tests of their personnel responsible for implementing the emergency preparedness plans.

Type of Request: Extension without change of a currently approved information collection.

Affected Public: Businesses (railroads).

Form(s): N/A.

Total Estimated Annual Responses: 69,670.

Total Estimated Annual Burden: 21,470 hours.

Title: Locomotive Cab Sanitation Standards.

OMB Control Number: 2130-0552.

Abstract: FRA's locomotive cab sanitation standards, 49 CFR 229.137 and 229.139, prescribe minimum standards for locomotive cab sanitation facilities. FRA uses the information collection associated with these provisions to promote rail safety and the health of railroad workers by ensuring that all locomotive crew members have access to functioning and hygienic toilet/sanitary facilities as needed and to ensure railroads timely repair defective locomotive sanitary facilities.

Type of Request: Extension without change of a currently approved information collection.

Affected Public: Businesses (railroads).

Form(s): N/A.

Total Estimated Annual Responses: 113,256.

Total Estimated Annual Burden: 1,272 hours.

Title: Locomotive Crashworthiness.

OMB Control Number: 2130-0564.

Abstract: FRA's Locomotive Crashworthiness Design Requirements (49 CFR part 229, subpart D) prescribe minimum crashworthiness standards for locomotives. These crashworthiness standards are intended to help protect locomotive cab occupants in the event of a collision or other accident involving a locomotive. FRA uses the information collection associated with Subpart D to ensure railroads use locomotives that meet the prescribed minimum performance standards and design load requirements for newly manufactured and re-manufactured locomotives.

Type of Request: Extension with change (revised estimates) of a currently approved information collection.

Affected Public: Businesses (railroads).

Form(s): N/A.

Total Estimated Annual Responses: 501.

Total Estimated Annual Burden: 6,470 hours.

Title: Critical Incident Stress Plans.

OMB Control Number: 2130-0602.

Abstract: FRA issued its Critical Incident Stress Plans Final Rule (49 CFR part 272) on March 25, 2014. See 79 FR 16218. Part 272 requires Class I, intercity passenger, and commuter railroads to develop, and submit to FRA for approval, critical incident stress plans that, among other things, provide appropriate support services be offered to their employees who are affected by a critical incident as defined at 49 CFR 272.9. FRA uses the information collected to ensure railroads meet the minimum standards of Part 272.

Type of Request: Extension with change (revised estimates) of a currently approved information collection.

Affected Public: Businesses (railroads)/Rail Labor Unions.

Form(s): N/A.

Total Estimated Annual Responses: 663.

Total Estimated Annual Burden: 314 hours.

Addressee: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collections of information are necessary for DOT to properly perform its functions, including whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

John Seguin,
Acting Chief Counsel.

[FR Doc. 2017-11139 Filed 5-30-17; 8:45 am]

BILLING CODE 4910-06-P